DEPARTMENT OF THE INTERIOR

National Park Service

[NPS-WASO-NRNHL-DTS#-33575; PPWOCRADI0, PCU00RP14.R50000]

National Register of Historic Places; Notification of Pending Nominations and Related Actions

AGENCY: National Park Service, Interior.

ACTION: Notice.

SUMMARY: The National Park Service is soliciting electronic comments on the significance of properties nominated before March 12, 2022, for listing or related actions in the National Register of Historic Places.

DATES: Comments should be submitted electronically by April 12, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 12, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

Calvin Coolidge Senior High School (Public School Buildings of Washington, DC MPS), 6315 5th St. NW, Washington, MP100007616

FLORIDA

Broward County

Rivermont, Address Restricted, Fort Lauderdale, SG100007619

Duval County

Clifton Cemetery, Intersection of Garrison and Magnolia Bluff Aves., Jacksonville, SG100007617

Lee County

McCollum Hall, 2701 Dr. Martin Luther King, Jr. Blvd., Fort Myers, SG100007618

GEORGIA

Grady County

Pope's Museum, 192 Pope's Store Rd., Ochlocknee, SG100007625

ILLINOIS

Champaign County

Royer, Joseph W., House and Ella Danely Cottage, 801 West Oregon St. and 701 South Busey Ave., Urbana, SG100007626

IOWA

Des Moines County

Aspen Grove Cemetery Historic District, 2043 Sunnyside Ave., Burlington, SG100007633

NEW JERSEY

Bergen County

Van Gelder Studio and Home, 445 Sylvan Ave., Englewood Cliffs, SG100007644

Cumberland County

Greenwich Historic District (Boundary Increase/Decrease), Irregularly bounded by the Cohansey R., Pier Rd., Molly Wheaton and Pine Mount Runs, Greenwich Township, BC100007645

Essex County

Maplewood Village Historic District, Maplewood Ave., Durand Rd., Baker St., Highland, Inwood and Lenox Pls., Maplewood Township, SG100007649

Hudson County

Morton Memorial Laboratory of Chemistry, 6th and River Sts., Hoboken, SG100007647

Loew's Jersey Theatre, 54 Journal Sq., Jersey City, SG100007648

OREGON

Marion County

State Library of Oregon (Oregon New Deal Resources from the PWA or WPA, 1933-1943 MPS), 250 Winter St. NE, Salem, MP100007638

WISCONSIN

Grant County

Gernan Evangelical Lutheran Church of Peace, 350 East Furnace St., Platteville, SG100007631

Sauk County

Baraboo Chicago & North Western Depot and Division Offices, 220 Lynn St., Baraboo, SG100007642

Perry, Ralph P., House (Reedsburg MRA), 531 East Main St., Reedsburg, 84004019

A request for removal has been made for the following resources:

IOWA

Allamakee County

Monsrud Bridge (Highway Bridges of Iowa MPS), Swebakken Rd. over Paint Cr., Waterville vicinity, OT98000771

TENNESSEE

Davidson County

Hibbettage, The, 2160 Old Hickory Blvd., Nashville, OT98001305

Sevier County

Sevierville Masonic Lodge, 119 Main St., Sevierville, OT80003855

Shelby County

Richards, Newton Copeland, House, 975 Peabody Ave., Memphis, OT84003709

Additional documentation has been received for the following resources:

IOWA

Cedar County

Hotel Tipton (Additional Documentation), 519-529 Cedar St., Tipton, AD98001328

MICHIGAN

Kalamazoo County

State Theatre (Additional Documentation) (Kalamazoo MRA), 404 South Burdick St., Kalamazoo, AD83004623

MINNESOTA

Dodge County

Mantorville Historic District (Additional Documentation), Both sides of MN 57 and 5th St., Mantorville, AD74001017

NEW JERSEY

Cumberland County

Greenwich Historic District (Additional Documentation), Irregularly bounded by the Cohansey R., Pier Rd., Molly Wheaton and Pine Mount Runs, Greenwich Township, AD100007645

WISCONSIN

Iowa County

Pendarvis (Additional Documentation), 114 Shake Rag St., Mineral Point, AD71000038

Nomination submitted by Federal Preservation Officer:

The State Historic Preservation Officer reviewed the following nomination and responded to the Federal Preservation Officer within 45 days of receipt of the nomination and supports listing the property in the National Register of Historic Places.

MONTANA

Beaverhead County

Everson Creek Archaeological District, Address Restricted, Dillon vicinity, SG100007636

Dated: March 15, 2022.
Sherry A. Frear,
Chief, National Register of Historic Places/National Historic Landmarks Program.

[FR Doc. 2022-06359 Filed 3-25-22; 8:45 am]

BILLING CODE 4312-52-P